FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
TRANSACTIONS GRANTED EARLY TERMINATION—03/09/2007
20070617 | Arrow Electronics, Inc | Agilysys, Inc | Agilysys.
20070830 | TCV V, L.P | TechTarget, Inc | TechTarget Inc.
20070852 | USG Corporation | Joseph Zucchero | California Wholesale Material Supply, Inc.; E Foam Corp.; Southwest Install and Rework, Inc.; Stockdale Materials Co., Inc.
20070854 | Peak Resorts, Inc | Oak Hill Capital Partners, L.P | L.B.O. Holding, Inc; Mount Snow Ltd.
20070860 | Avista Capital Partners, L.P | Invitrogen Corporation | BioReliance Corporation.
20070863 | New Mountain Partners II, L.P | Ikaria Holding, Inc | Ikaria Holdings, Inc.
20070864 | Eos Capital Partners III, L.P | Victor Grillo, Jr | DTR Advertising. Inc.
20070870 | JP Morgan Chase & Co | Western & Southern Mutual Holding Company | Integrated Investment Services, Inc.
20070873 | GGC Investment Fund II, L.P | Blair Corporation | Blair Corporation.
20070875 | Comverse Technology, Inc | Witness Systems, Inc | Witness Systems, Inc.
20070893 | Kia Motors Corporation | Hyundai Motor Company | Hyundai Motor Finance Company.
TRANSACTIONS GRANTED EARLY TERMINATION—03/12/2007
20070881 | Citigroup, Inc | Srinivasan Subramanian | Caritor, Inc.
20070882 | Citigroup, Inc | Keane, Inc | Keane, Inc.
TRANSACTIONS GRANTED EARLY TERMINATION—03/13/2007
20070807 | Constellation Brands, Inc | AlcoFinance S.A | AlcoFi, Inc.
20070824 | Weston Presidio V, L.P | TSG4 L.P | PR Holding Corp.; Pureology Research LLC.
20070862 | Craig O. McCaw | AT&T Inc | BellSouth Corporation; BellSouth Wireless Cable, Inc.; South Florida Television, Inc.
20070888 | Saputo Inc | Land O'Lakes, Inc | Cheese & Protein International LLC.
200070892 | TA X L.P | Alere Medical Incorporated | Alere Medical Incorporated.
20070899 | PetSmart, Inc | MMI Holdings, Inc | MMI Holdings, Inc.
TRANSACTIONS GRANTED EARLY TERMINATION—03/14/2007
20070869 | EXCO Resources, Inc | Anadarko Petroleum Corporation | Anardarko E&P Company LP; Howell Petroleum Corporation; Kerr-McGee Oil & Gas Onshore LP.
20070884 | Coleman Cable, Inc | Spell Capital Partners Fund I, L.P | Spell Capital Corporation.
TRANSACTIONS GRANTED EARLY TERMINATION—03/15/2007
20070596 | LodgeNet Entertainment Corporation | Liberty Media Corporation | Ascent Entertainment Group, Inc.
20070865 | Nestle S.A | ZARS, Inc | ZARS, Inc.
20070866 | L'Oreal S.A | ZARS, Inc | ZARS, Inc.
TRANSACTIONS GRANTED EARLY TERMINATION—03/19/2007
20070902 | Landmark Communications, Inc | Siegel Enterprises, Inc | Eneighborhoods, Inc.; Home Data Corporation; RECHANNEL Communications, Inc.; Siegel Enterprises, Inc.; Wyld Acquisition Corp.
TRANSACTIONS GRANTED EARLY TERMINATION—03/20/2007
20070826 | Cougard Holding | Compagnie de Saint-Gobain | Saint-Gobain Desjonqueres.
20070845 | Atlas Copco AB | Dynapac Group AB | Dynapac Group AB.
20070900 | Encore Acquisition Corporation | Anadarko Petroleum Corporation | Clear Fork Pipeline Company; Howell Petroleum Corporation; Kerr-McGee Oil & Gas Onshore LP.
20070903 | Powdr Corporation | Oak Hill Capital Partners, L.P | Cherry Knoll Associates, LLC; Killington, Ltd.; Killington Restaurants, Inc.; Pico Ski Area Management Company.
20070906 | Ronald O. Perelman | M & F Worldwide Corp | M & F Worldwide Corp.
20070907 | MidOcean Partners III, L.P | Lehman Brothers Merchant Banking Partners III, L.P | Hunter Fan Holdings, Inc.
20070911 | Commercial Metals Company | Nicholas J. Bouras | ABA Trucking Corporation; Bouras Industries, Inc.; Nicholas J. Bouras, Inc.; The New Columbia Joist Company; United Steel Deck, Inc.
20070912 | Payless Shoesource, Inc | Sunrise Capital Partners, L.P | Collective International, LP.
20070918 | Otsuka Pharmaceutical Co., Ltd | GW Pharmaceuticals plc | GW Pharma Ltd.
20070919 | Shidax Corporation | The Smith & Wollensky Restaurant Group, Inc | The Smith & Wollensky Restaurant Group, Inc.
20070920 | GS Capital Partners VI, L.P | Michael I.M. MacMillan | Entertainment Holdco; Movie Holdco.
20070921 | Colony Investors VIII, L.P | Station Casinos, Inc | Station Casinos, Inc.
20070923 | Trident IV, L.P | Ford Motor Company | Automobile Protection Corporation.
20070926 | GS Capital Partners VI, L.P | Seaton McLean | Entertainment Holdco; Movie Holdco.
20070930 | JDS Uniphase Corporation | Picolight Incorporated | Picolight Incorporated.
20070939 | Court Square Capital Partners II, L.P | JLL Partners Fund IV, L.P | Mosaic Sales Solutions Holding Co.
20070943 | Ares Corporate Opportunities Fund II, L.P | EXCO Resources, Inc | EXCO Resources, Inc.
TRANSACTIONS GRANTED EARLY TERMINATION—03/21/2007
20070891 | FS Acquisition Corp | Isadore Sharp | Four Seasons Hotels Inc.
20070914 | Alstom, SA | Calpine Corporation | Power Systems MFG, LLC.
TRANSACTIONS GRANTED EARLY TERMINATION—03/22/2007
20070384 | The Men's Wearhouse, Inc | Federated Department Stores, Inc | After Hours Formalwear, Inc.
20070885 | Micron Technology, Inc | TECH Semiconductor Singapore Pte. Ltd | TECH Semiconductor Singapore Pte. Ltd.
20070894 | Citigroup Inc | Seton House Group Limited | Public Safety Luxembourg S.a.r.l.
20070917 | National Oilwell Varco, Inc | Gammaloy Holdings, L.P | Gammaloy Holdings, L.P.
TRANSACTIONS GRANTED EARLY TERMINATION—03/23/2007
20070365 | Applied Materials, Inc | Brooks Automation, Inc | Brooks Automation, Inc.
20070890 | Eli Lilly and Company | Hypnion, Inc | Hypnion, Inc.
20070916 | AIF VI Euro Holdings, LP, c/o Apollo Management Intl. LLP | Oceania Cruise Holdings, Inc | Oceania Cruise Holdings, Inc.
20070922 | Pouschine Cook Capital Partners II, LP | Crownline Boats, Inc | Crownline Boats, Inc.
20070928 | Aktiegolaget Volvo | Ingersoll-Rand Company Limited | Blaw-Knox Construction Equipment Corporation.
20070932 | Beacon Roofing Supply, Inc | North Coast Commercial Roofing Systems, Inc | North Coast Commercial Roofing Systems, Inc.
20070940 | OCM Principal Opportunities Fund IV, lL.P | EXCO Resources, Inc | EXCO Resources, Inc.
20070944 | OCM Opportunities Fund VII, L.P | EXCO Resources, Inc | EXCO Resources, Inc.
20070949 | Ambassadors international, Inc | Carnival Corporation | Windstar Sail Cruises Limited.
20070950 | AP Berry Holdings, LLC | Berry Plastics Group, Inc | Berry Plastics Group, Inc.
20070951 | Vestar Capital Partners V, L.P | Paul Danton (Dan) Huish | Huish Detergents, Inc.
20070952 | Graham Partners II, L.P | Berry Plastics Group, Inc | Berry Plastics Group, Inc.
20070953 | Apollo Investment Fund VI, L.P | Berry Plastics Group, Inc | Berry Plastics Group, Inc.
20070954 | Apollo Investment Fund V, L.P | Apollo Investment Fund VI, L.P | Berry Plastics Group, Inc.
20070968 | Iconix Brand Group, Inc | ROCSAN Holdings, LLC | ROCAWEAR LICENSING, LLC.
20070970 | John D. Baker II | Holdco | Holdco.
20070971 | Monomoy Capital Partners, L.P | Global Home Products LLP, Chapter 11 debtor in possession | Anchor Hocking CG Operating Company, LLC; Anchor Hocking Operating Company, LLC, Anchor Hocking Operating Company LLC.
20070974 | Zurich Financial Services | Bristol West Holdings, Inc | Bristol West Holdings, Inc.
20070975 | IDB Holding Corporation Ltd | Susan W. Shoval | Guard Financial Group, Inc.
20070977 | LPL Investment Holdings, Inc | Pacific Mutual Holding Company | Pacific Select Group LLC.
20070982 | Spire Capital Partners II, L.P | Professional Bull Riders, Inc | Professional Bull Riders, Inc.
20070984 | Marathon Special Opportunity Master Fund, Ltd | SPX Corporation | General Signal UK Ltd.
20070986 | CRFRC-D Holdings, Inc | DEG Acquisitions, LLC | DEG Acquisitions, LLC.
20070991 | Ares Corporate Opportunities Fund, L.P | EXCO Resources, Inc | EXCO Resources, Inc.
20070995 | JLL Partners Fund, V, L.P | Patheon Inc | Patheon Inc.

For Further Information Contact: Sandra M. Peay, Contact Representative or Renee Hallman, Contact Representative. Federal Trade Commission, Premerger Notification Office, Bureau of Competition, Room H-303, Washington, DC 20580, (202) 326-3100.

By Direction of the Commission.
Donald S. Clark,
Secretary.

[FR Doc. 07-1646 Filed 4-3-07; 8:45 am]

BILLING CODE 6750-01-M